POSTAL SERVICE

Retirement Plan for Manually Set Postage Meters

AGENCY: Postal Service.

ACTION: Notice of proposed plan with request for comments.

SUMMARY: The Postal Service recently completed the first phase of a plan to remove insecure postage meters from the marketplace with the decertification of mechanical postage meters. A plan is herewith proposed for the second phase, which is the retirement of manually reset electronic meters. Upon completion of this phase all meters in service will offer enhanced levels of security, thereby greatly reducing the Postal Service's exposure to meter fraud, misuse, and loss of revenue.

DATES: Comments must be received on or before June 15, 2000.

ADDRESSES: Written comments should be mailed or delivered to the Manager, Postage Technology Management, U.S. Postal Service, Room 8430, 475 L'Enfant Plaza SW, Washington DC 20260-2444. Copies of all written comments will be available at the above address for inspection and photocopying between 9 a.m. and 4 p.m. Monday through Friday.

FOR FURTHER INFORMATION CONTACT: Nicholas S. Stankosky, (202) 268-5311.

SUPPLEMENTARY INFORMATION: In 1996 the Postal Service, in cooperation with all authorized postage meter manufacturers, began a phase-out, or decertification, of all mechanical postage meters because of identified cases of indiscernible tampering and misuse. Postal revenues were proven to be at serious risk. With the recent completion of this initial effort, 776,000 mechanical meters have been withdrawn from service. Recent advances in postage meter technology offer high levels of security, operational reliability, and flexibility for meter users. As a result, the Postal Service is addressing the next category of meter insecurity, namely electronic meters that are manually set by postal employees. Of the current total installed population of 1,587,000 meters, over 92 percent are remotely set through telephone access to a manufacturer's setting center. Customers have recognized the advantages of remote setting, and as a result the marketplace has moved in a positive direction. The remaining 145,000 manually set electronic meters are to be retired and no longer authorized for use as postage evidencing devices. It is the Postal Service's intent to make this an orderly process minimizing impacts on meter users. A schedule has been devised that gives meter users ample time to make timely and intelligent decisions on replacement meters. The Postal Service proposed plan is as follows:

1. Effective February 1, 2000, new placements of manually reset electronic postage meters ceased. The edict applies to new customers as well as existing meter users. All meter manufacturers were notified of this policy and are complying.

2. Meters must be withdrawn at the expiration of a user's lease, with one exception. The Postal Service will allow a lease extension up to December 31, 2001, for any lease which expires during calendar year 2000. No other lease extensions are permitted by the Postal Service. Manufacturers or users cannot avoid meter retirement by the manipulation of leases.

3. Some users currently have multiple-year leases which expire after June 30, 2001. Any meter covered under such a lease may be used until the lease expires.

4. All retired meters must be withdrawn from active service records immediately upon lease expiration. Manufacturers must process PS Form 3601-C, Postage Meter Activity Report, to withdraw the meter effective the lease expiration date.

5. Retired meters must be physically returned to the manufacturer within 30 business days after lease expiration. The use of a retired meter in the time period between the expiration date and when the meter is returned to the manufacturer may result in the cancellation of the user's meter license.

6. Official notification to users explaining this action will be sent directly by the Manager, Postage Technology Management, Postal Service Headquarters. No other correspondence will be considered to be official.

7. Any manufacturer correspondence to these meter users must be provided to and reviewed by the Manager, Postage Technology Management prior to distribution.

8. Manufacturers will provide the Postal Service with a complete listing of lease expiration dates including those extended under item 2 above.

9. The meters affected by this rule are:

Ascom Hasler

1441

1446

SM1441

SM1446

16410

16410TMS

16413

16463

SM16410

SM16413

SM16463

17563

SM17563

741

SM741

7410

7413

SM7410

SM7413

7560

7563

SM7560

SM7563

Neopost

9212

9212G

9248

9248G

9252

9252G

9257

9257G

9258

9258G

9252U

9257U

9258U

9258UG

9267

9268

9268G

Francotyp-Postalia

7000

7100

7200

Pitney Bowes

6501

6502

6513

B901

E101

E102

A final plan will be published after all comments have been received from interested parties and reviewed by the Postal Service.

Stanley F. Mires,
Chief Counsel, Legislative.

[FR Doc. 00-10812 Filed 4-28-00; 8:45 am]

BILLING CODE 7710-12-P